DEPARTMENT OF COMMERCE

International Trade Administration

[A-570-866]

Folding Gift Boxes From the People's Republic of China: Extension of Time Limits for Preliminary and Final Results of Second Antidumping Duty Sunset Review

AGENCY: Import Administration, International Trade Administration, Department of Commerce.

DATES: Effective Date: July 31, 2012.

FOR FURTHER INFORMATION CONTACT: Demitri Kalogeropoulos at 202-482-2623, AD/CVD Operations, Office 8, Import Administration, International Trade Administration, U.S. Department of Commerce, 14th Street and Constitution Avenue NW., Washington, DC 20230.

Background

On April 2, 2012, the Department of Commerce (“the Department”) initiated the second five-year (“sunset”) review of the antidumping duty (“AD”) order on certain folding gift boxes from the People's Republic of China (“PRC”) pursuant to section 751(c) of the Tariff Act of 1930, as amended (“the Act”).¹ The Folding Gift Boxes Fair Trade Coalition,² a group of producers of the domestic like product, submitted a sufficient substantive response. On May 21, 2012, after analyzing the substantive response of interested parties, consistent with 19 CFR 351.218(e)(1)(ii)(A), the Department determined to conduct an expedited sunset review of this AD duty order on the basis that no respondent interested party submitted a substantive response.

¹ See Initiation of Five-Year (“Sunset”) Review, 77 FR 19643 (April 2, 2012).

² The Folding Gift Boxes Fair Trade Coalition is comprised of Harvard Folding Gift Box Company, Inc. and Graphic Packaging International, Inc., both U.S. producers of folding gift boxes.

On February 14, 2012, the Department published in the Federal Register a notice entitled Antidumping Proceedings: Calculation of the Weighted-Average Dumping Margin and Assessment Rate in Certain Antidumping Duty Proceedings; Final Modification, 77 FR 8101 (February 14, 2012) (“Final Modification for Reviews”). In that notice, the Department announced the modification of its methodology regarding the calculation of the weighted-average dumping margins in certain segments of AD proceedings and stated that it would apply to all sunset reviews for which preliminary or final results were due more than 60 days after publication (i.e., April 16, 2012). On July 23, 2012, the Department reconsidered its determination to conduct an expedited sunset review of this order and determined to conduct a full sunset review of the AD order on folding gift boxes from the PRC.³ The preliminary results of this full sunset review are currently due July 23, 2012.⁴

³ See Memorandum titled “Sunset Review of the Antidumping Duty Orders on Folding Gift Boxes from the People's Republic of China: Adequacy Redetermination Memorandum,” (July 23, 2012).

⁴ The due date actually falls on July 21, 2012, which is a weekend. Therefore, the deadline moves to the next business day which is July 23, 2012. See Notice of Clarification: Application of “Next Business Day” Rule for Administrative Determination Deadlines Pursuant to the Tariff Act of 1930, As Amended; 70 FR 24533 (May 10, 2008).

Extension of Time Limits

In accordance with section 751(c)(5)(B) of the Act, the Department may extend the period of time for making its determination by not more than 90 days, if it determines that the sunset review is extraordinarily complicated. We determine that this AD sunset review is extraordinarily complicated, pursuant to section 751(c)(5)(C) of the Act, because the issues that the Department must analyze pursuant to the Final Modification for Reviews are complex.

The preliminary results of this full sunset review of the AD orders on folding gift boxes from the PRC are currently scheduled for July 23, 2012, and the final results of this review are scheduled for November 28, 2012. The Department is extending the deadlines for both the preliminary and final results of the full sunset review. As a result, the Department intends to issue the preliminary results of this full sunset review of the AD order on folding gift boxes from the PRC no later than October 19, 2012, and the final results of the review no later than February 26, 2013. These dates are 90 days from the original scheduled dates of the preliminary and final results of the full sunset review.

This notice is issued in accordance with sections 751(c)(5)(B) and (C)(v) of the Act.

Dated: July 23, 2012.
Christian Marsh,
Deputy Assistant Secretary for Antidumping and Countervailing Duty Operations.

[FR Doc. 2012-18681 Filed 7-30-12; 8:45 am]

BILLING CODE 3510-DS-P